POSTAL REGULATORY COMMISSION

[Docket Nos. MT2013-1; Order No. 2198]

New Postal Product

AGENCY: Postal Regulatory Commission.

ACTION: Notice.

SUMMARY: The Commission is noticing a recent Postal Service filing concerning a request for extension and expansion of Metro Post market test. This notice informs the public of the filing, invites public comment, and takes other administrative steps.

DATES: Comments are due: October 9, 2014.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Notice of Commission Action

III. Ordering Paragraphs

I. Introduction

On September 19, 2014, the Postal Service filed a request, pursuant to 39 U.S.C. 3641(d)(2) and Order No. 1539, to extend the duration of the Metro Post market test for an additional year and to expand the test to additional markets across the nation during this additional year.¹ The Metro Post market test is currently set to expire on December 16, 2014. Request at 1. Metro Post is currently being tested in the San Francisco and New York City metropolitan areas. ld.

¹ Request of the United States Postal Service for Extension and Expansion of Metro Post Market Test, September 19, 2014 (Request). See also Order No. 1539, Order Approving Metro Post Market Test, November 14, 2012.

The Postal Service intends to expand the Metro Post market test to a number of additional markets over the next year so that it can examine the market for same-day delivery in a wider range of metropolitan areas. ld. The Postal Service explains that it is necessary to test a variety of metropolitan areas to determine the operational feasibility and desirability of making Metro Post a permanent product. ld. at 1-2.

Accordingly, the Postal Service requests to extend the Metro Post market test for one additional year, until December 16, 2015, and to expand the test into other metropolitan areas over the coming year. ld. at 2. The Postal Service asserts that all other aspects of the Metro Post market test remains unchanged, and in compliance with 39 U.S.C. 3641 and Commission Order No. 1539. ld.

II. Notice of Filing

The Commission reopens Docket No. MT2013-1 to consider matters raised by the Postal Service's Request. Interested persons may submit comments on whether the Postal Service's filing in the captioned docket is consistent with the policies of 39 U.S.C. 3641. Comments are due no later than October 9, 2014. The filing can be accessed via the Commission's Web site (http://www.prc.gov).

The Commission appoints Elisabeth S. Shellan to represent the interests of the general public (Public Representative) in this docket.

III. Ordering Paragraphs

It is ordered:

1. The Commission reopens Docket No. MT2013-1 to consider matters raised by the Postal Service's Request.

2. Pursuant to 39 U.S.C. 505, the Commission appoints Elisabeth S. Shellan to serve as an officer of the Commission (Public Representative) to represent the interests of the general public in this proceeding.

3. Comments are due no later than October 9, 2014.

4. The Secretary shall arrange for publication of this order in the Federal Register.

By the Commission.
Ruth Ann Abrams,
Acting Secretary.

[FR Doc. 2014-23615 Filed 10-2-14; 8:45 am]

BILLING CODE 7710-FW-P